DEPARTMENT OF COMMERCE

National Oceanic and Atmospheric Administration

RIN 0648-XB107

Pacific Fishery Management Council (Pacific Council); Public Meeting

AGENCY: National Marine Fisheries Service (NMFS), National Oceanic and Atmospheric Administration (NOAA), Commerce.

ACTION: Notice of a public meeting.

SUMMARY: The Pacific Council will convene a meeting of the Ecosystem Plan Development Team (EPDT) which is open to the public.

DATES: The EPDT will meet on Thursday, April 12, 2012 from 9 a.m. to 5 p.m., or when business for the day is completed.

ADDRESSES: The meeting will be held at the Hilton Seattle Airport, Mercer B Room, 17620 International Boulevard, Seattle, WA 98188-4001; telephone: (206) 244-4800.

FOR FURTHER INFORMATION CONTACT: Mike Burner, Staff Officer; telephone: (503) 820-2280.

SUPPLEMENTARY INFORMATION: Please note, this is not a public hearing; it is a work session for the primary purpose of drafting a report and recommendations to the Council on the Development of a Fishery Ecosystem Plan (FEP). The primary purpose of the meeting is to address Council requests from and since the November 2011 Council meeting, revise and expand sections of the Council's developing Fishery Ecosystem Plan, discuss the content and format of an annual ecosystem report, explore mechanisms for incorporating ecosystem science into stock assessments, and revisit the need and mechanisms for expanding protective measures for unexploited forage species. The EPDT may also develop recommendations for the June 2012 Council meeting.

Although non-emergency issues not contained in the meeting agenda may come before the EPDT for discussion, those issues may not be the subject of formal EPDT action during this meeting. EPDT action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2280 at least 5 days prior to the meeting date.

Dated: March 21, 2012.
Tracey L. Thompson,
Acting Director, Office of Sustainable Fisheries, National Marine Fisheries Service.

[FR Doc. 2012-7165 Filed 3-23-12; 8:45 am]

BILLING CODE 3510-22-P